DEPARTMENT OF THE TREASURY

Proposed Collections; Comment Requests

AGENCY: Departmental Offices; Department of the Treasury.

SUMMARY: The Department of the Treasury, as part of its continuing effort to reduce paperwork burdens, invites the general public and other Federal agencies to comment on revisions of an information collection that are proposed for approval by the Office of Management and Budget. The Office of International Affairs within the Department of the Treasury is soliciting comments concerning Treasury International Capital Forms CQ-1 and CQ-2, “Financial and Commercial Liabilities to, and Claims on, Unaffiliated Foreign Residents.”

DATES: Written comments should be received on or before October 7, 2019 to be assured of consideration.

ADDRESSES: Direct all written comments to Dwight Wolkow, International Portfolio Investment Data Systems, Department of the Treasury, Room 5422, 1500 Pennsylvania Avenue NW, Washington, DC 20220. In view of possible delays in mail delivery, please also notify Mr. Wolkow at the email or telephone contact mentioned in the next section.

FOR FURTHER INFORMATION CONTACT: Copies of the proposed forms and instructions are available on the Treasury's TIC web page for forms, http://www.treasury.gov/resource-center/data-chart-center/tic/Pages/forms.aspx. Requests for additional information should be directed to Mr. Wolkow by email (comments2TIC@treasury.gov) or telephone (202-622-1276).

SUPPLEMENTARY INFORMATION: Title: Treasury International Capital Form CQ-1, “Financial Liabilities to, and Claims on, Unaffiliated Foreign Residents;” and Treasury International Capital Form CQ-2, “Commercial Liabilities to, and Claims on, Unaffiliated Foreign Residents.”

OMB Number: 1505-0024.

Abstract: Forms CQ-1 and CQ-2 are part of the Treasury International Capital (TIC) reporting system, which is required by law (22 U.S.C. 286f; 22 U.S.C. 3103; E.O. 10033; 31 CFR 128), and is designed to collect timely information on international portfolio capital movements. Forms CQ-1 and CQ-2 are quarterly reports filed by non-financial enterprises in the U.S. to report their international portfolio transactions with unaffiliated foreign residents. This information is necessary for compiling the U.S. balance of payments accounts and the U.S. international investment position, and for use in formulating U.S. international financial and monetary policies.

Current Actions: No changes in the forms are being proposed at this time. The proposed changes in the instructions are: (1) The section I.C “Who Must Report” is updated to list out separately Intermediate Holding Companies (IHCs), as defined by Regulation YY, 12 CFR 252, and to clarify that IHCs should follow the same consolidation rules that are applicable to Bank Holding Companies (BHCs), Financial Holding Companies (FHCs), and Savings and Loan Holding Companies. Regulation YY was effective by January 1, 2015, and IHCs are filing TIC reports; this update will formalize their reporting requirements. (2) In section I.C “Who Must Report”, the last item in the list of entities that must file, “State and local government”, has been expanded to clarify that it means “State and local government agencies and instrumentalities such as utilities that produce goods or non-financial services that are not strictly governmental in nature in exchange for money.” (3) The glossaries for all Treasury International Capital (“TIC”) reports are consolidated into a single document which will provide more consistency across the TIC system. As a result, the TIC C reporting instructions will not include a glossary but new Appendix D will point to the separate consolidated TIC Glossary document on the Treasury website. See the March 2018 version and later versions. (4) In section I.B.5 “Other Statistical Reports”, some descriptions are updated. (5) The contact information is updated in section F.2, “Submission of Reports.” (6) Some other clarifications and format changes may be made to improve the instructions.

Type of Review: Revision of a currently approved data collection.

Affected Public: Business or other for-profit organizations.

Forms: CQ-1 and CQ-2 (1505-0024).

Estimated Number of Respondents: 135.

Estimated Average Time per Respondent: Six and seven-tenths (6.7) hours per respondent per filing.

Estimated Total Annual Burden Hours: 3,620 hours, based on four reporting periods per year.

Request for Comments: Comments submitted in response to this notice will be summarized and/or included in the request for Office of Management and Budget approval. All comments will become a matter of public record. The public is invited to submit written comments concerning: (a) Whether Forms CQ-1 and CQ-2 are necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. 2019-16360 Filed 8-6-19; 8:45 am]

BILLING CODE 4810-25-P